DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

James C. Pennington, Brown University: Based on the report of an inquiry/investigation conducted by Brown University and additional analysis conducted by ORI in its oversight review, the U.S. Public Health Service (PHS) found that James C. Pennington, formerly a graduate student in the Department of Cognitive and Linguistic Sciences, engaged in scientific misconduct by fabricating data in his master's thesis. The research was supported by National Institute on Deafness and Other Communication Disorders (NIDCD), National Institutes of Health (NIH), grant R01 DC000314, “Speech and language processing in aphasia.”

Specifically, PHS found that:

1. For Experiment 3, reported as having been conducted with 12 normal subjects, Mr. Pennington fabricated: (a) The mean reaction time data to auditory stimuli presented in Figures 5 and 6, and the results of the associated statistical analyses; and (b) the accuracy data presented in Tables 4 and 5, and the results of the associated statistical analysis.

2. For Experiment 4, reported as having been conducted with 6 subjects with Broca's aphasia, Mr. Pennington fabricated: (a) The mean reaction time data to auditory stimuli presented in Figures 7 and 8, and the results of the associated statistical analyses; and (b) the accuracy data presented in Table 6, and the results of the associated statistical analysis.

The fabrication of Experiments 3 and 4, which were intended to incorporate improvements to the procedures used in Experiments 1 and 2, resulted in the premature termination of the planned experimental procedures and indeterminate or possibly misleading findings relative to the influence of negative priming on the processing of auditory stimuli in normal and aphasic subjects.

Mr. Pennington has entered into a Voluntary Exclusion Agreement in which he has voluntarily agreed for a period of three (3) years, beginning on June 21, 2002: (1) To exclude himself from serving in any advisory capacity to PHS, including but not limited to service on any PHS advisory committee, board, and/or peer review committee, or as a consultant; and (2) that any institution that submits an application for PHS support for a research project on which Mr. Pennington's participation is proposed or that uses him in any capacity on PHS supported research, or that submits a report of PHS-funded research in with he is involved, must concurrently submit a plan for supervision of his duties to the funding agency for approval. The supervisory plan must be designed to ensure the scientific integrity of Mr. Pennington's research contribution. The institution also must submit a copy of the supervisory plan to ORI.

FOR FURTHER INFORMATION CONTACT: Director, Division of Investigative Oversight, Office of Research Integrity, 5515 Security Lane, Suite 700, Rockville, MD 20852. (301) 443-5330.

Chris B. Pascal,
Director, Office of Research Integrity.

[FR Doc. 02-17750 Filed 7-12-02; 8:45 am]

BILLING CODE 4150-31-P